DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[5/18/2009 through 6/10/2009]
Firm | Address | Date accepted for filing | Products
Promark International, Inc | 1268 Humbracht Circle, Bartlett, IL 60103-1631 | 5/20/2009 | Professional photographic and video lighting equipment and accessories.
Ultra Tool & Manufacturing, Inc | W169 N5954 Ridgewood, Menominee, WI 3051 | 5/19/2009 | Metal stampings and tooling for precision metal stamping applications.
Accent Windows, Inc | 12300 Pecos St., Westminster, CO 80234 | 5/19/2009 | Windows and doors are custom designed and manufactured from vinyl, wood, metal, and glass on-site.
Black Gold International, LLC | 2280 SW 70th Avenue, Davie, FL 33317 | 5/20/2009 | Men's formal wear accessories, principal materials include fabric, woven yarns, and buttons.
Martin Door Manufacturing | 2828 S 900 W, Salt Lake, UT 84119 | 5/20/2009 | Steel garage doors and related products.
Swanson Group Manufacturing, LLC | 2695 Glendale Valley Road, Glendale, OR 97442-9715 | 5/20/2009 | Plywood/veneer and dimensional lumber.
Rochester Shoe Tree Company, Inc | One Cedar Lane, Ashland, NH 03217 | 5/21/2009 | Aromatic red cedar shoe trees, shoe care products, red cedar gifts and display trees.
H&J Investments dba Custom Engineering | 8558 Miramar Place, San Diego, CA 92121 | 5/21/2009 | Plastic injection molding of short to medium run production parts, and specialization in hybrid aluminum molds used for injection molding.
Wendell August Forge, Inc | 620 Madison Avenue, PO, Grove City, PA 16127 | 5/21/2009 | Hand-wrought ornamental ironware and aluminum and pewter giftware.
Columbia Gem House, Inc | 12507 NE 95th Street, Vancouver, WA 98682 | 5/22/2009 | Silver and gold jewelry with cut gemstones of many varieties.
Tracy Glover Objects and Lighting, Inc | 1655 Elmwood Ave., Cranston, RI 02910 | 5/19/2009 | Tracy Glover Objects and Lighting, Inc. manufactures and sells hand-blown glass lighting fixtures, objects and furniture hardware.
Ricardo E. Gomez, Inc. dba Professional | 770 Market Avenue, Richmond, CA 94801-1303 | 5/31/2009 | A wide range of interior and exterior finishes to individual customer specifications. Sandblasting, silkscreening, liquid or powder coating in a wide range of materials, inspection, packing and shipping.
WITCO, Inc. | 6401 Bricker Road, Avoca, MI 48006 | 6/3/2009 | Machined components with and without threads.
International Packaging Corporation | 517 Mineral Spring Avenue, Pawtucket, RI 02860 | 5/19/2009 | Jewelry boxes which range in style from covered metal boxes to plastic and cardboard boxes, along with hanging cards and jewelry pads. They also manufacture point-of-purchase displays made from wood and plexi-glass. Jewelry accessory products range from puff pads that hold jewelry to sewn and heat seal products.
Mid-West Screw Products, Inc | 3523 N. Kenton Ave., Chicago, IL 60641 | 5/22/2009 | Machined metal high and low voltage connectors, mechanical fasteners, screws and turned metal parts.
Ripano Stoneworks Ltd | 90 East Hollis Street, Nashua, NH 03060 | 5/22/2009 | Custom stone slab work including: kitchen counters, bathroom vanities, shower walls, tub surrounds, fireplaces, reception desks and furniture tops.
Silbond Corporation | 9901 Sand Creek Hwy., Weston, MI 49289 | 5/22/2009 | Chemical additives for coatings to provide adhesive properties and other industrial inorganic chemicals.
Advanced Energy Industries, Inc | 1625 Sharp Point Drive, Fort Collins, CO 80525 | 5/27/2009 | Electrical power, gas and liquid flow management systems for solar cell, semiconductor and other processes.
Annex Precision | 800 Mathew Street, Suite, Santa Clara, CA 95050 | 5/29/2009 | High precision parts manufactured from various materials including all types of plastics, steels, aluminum, copper, and brass.
Aero Parts Manufacturing & Repair, Inc | 431 Rio Rancho Boulevard, Rio Rancho, NM 81724 | 6/3/2009 | Airplane parts for commercial and military aircraft, and provides service and repair on airplane parts.
Skol Manufacturing Company | 4444 N. Ravenswood Ave., Chicago, IL 60640 | 5/29/2009 | Precision stamped, formed and welded parts and assemblies.
Body Balance System, LLC | 3834 Commerce Loop, Orlando, FL 32808-3818 | 5/18/2009 | Ionic detoxification foot bath systems, sound therapy systems, and blood therapy systems.
ABBA Plastics, Inc. | 207 Beaver Street, Yorkville, IL 60650 | 5/31/2009 | Custom plastic parts.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: June 9, 2009.
William P. Kittredge,
Program Officer for TAA.

[FR Doc. E9-14316 Filed 6-17-09; 8:45 am]

BILLING CODE 3510-24-P